DEPARTMENT OF LABOR

Employment and Training Administration

[TA-W-54,800A]

Johnson Controls, Inc., Southview Plant, Door Panel Line, Including Leased Workers of Kelly Services, Holland, MI; Notice of Revised Determination on Reconsideration

By letter dated July 16, 2004, a company official requested administrative reconsideration regarding the Departments Negative Determination Regarding Eligibility to Apply for Worker Adjustment Assistance and Alternative Trade Adjustment Assistance (ATAA), applicable to the workers of the subject firm. The determination covering workers of Johnson Controls, Inc., Southview Plant, Sun Visor Line and Door Panel Line, including leased workers of Kelly Services, Holland, Michigan, (TA-W-54,800 and TA-W-54,800A) certified the Sun Visor Line for TAA and ATAA but denied TAA and ATAA certification to the Door Panel Line.

The Department's determination was signed on June 23, 2004. The Department's Notice of Determination was published in the Federal Register on August 3, 2004 (69 FR 46574).

The initial investigation determined that workers of the Sun Visor Line are separately identifiable from the Door Panel Line.

On reconsideration the company contact alleged that the workers of the Sun Visor Line are not separately identifiable from the Door Panel Line. Further contact with the company established that the workers of Johnson Controls, Inc., Southview Plant, Sun Visor Line and Door Panel Line, Holland, Michigan are not separately identifiable by product line.

Conclusion

After careful review of the additional facts obtained on reconsideration, I conclude that workers are not separately identifiable at the subject firm and that a shift in production of another article produced at the Holland, Michigan contributed to the total or partial separation of workers at the subject firm. In accordance with the provisions of the Act, I make the following certification:

“All workers of Johnson Controls, Inc., Southview Plant, Door Panel Line, Holland, Michigan, including leased workers of Kelly Services working onsite at the subject facility, who became totally or partially separated from employment on or after April 8, 2003 through June 23, 2006, are eligible to apply for adjustment assistance under Section 223 of the Trade Act of 1974, and are also eligible to apply for alternative trade adjustment assistance under Section 246 of the Trade Act of 1974.”

Signed in Washington, DC this 24th day of September 2004.
Elliott S. Kushner,
Certifying Officer, Division of Trade Adjustment Assistance.

[FR Doc. 04-22796 Filed 10-8-04; 8:45 am]

BILLING CODE 4510-30-P